ENVIRONMENTAL PROTECTION AGENCY

[ER-FRL-9055-8]

Environmental Impact Statements; Notice of Availability

Responsible Agency: Office of Federal Activities, General Information 202-564-5632 or https://www.epa.gov/nepa.

Weekly receipt of Environmental Impact Statements (EIS)

Filed March 15, 2021 10 a.m. EST Through March 22, 2021 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210034, Final, NPS, NY, Adoption—Fire Island Inlet to Montauk Point Reformulation Study, Contact: Joe Neubauer 215-597-1903.

The National Park Service (NPS) has adopted the Army Corps of Engineers Final EIS No. 20200043, filed 2/14/2020 with EPA. NPS was a cooperating agency on this project. Therefore, republication of the document is not necessary under Section 1506.3(b)(2) of the CEQ regulations.

EIS No. 20210035, Final, NPS, NC, Cape Hatteras National Seashore Sediment Management Framework, Review Period Ends: 04/26/2021, Contact: Dave Hallac 252-475-9032.

EIS No. 20210036, Final, BR, WA, Leavenworth National Fish Hatchery Surface Water Intake Fish Screens and Fish Passage Project, Review Period Ends: 04/26/2021, Contact: Jason Sutter 208-378-5390.

EIS No. 20210037, Draft, USACE, MT, Fort Peck Dam Test Releases, Comment Period Ends: 05/25/2021, Contact: Aaron Quinn 402-995-2669.

Dated: March 22, 2021.
Cindy S. Barger,
Director, NEPA Compliance Division, Office of Federal Activities.

[FR Doc. 2021-06280 Filed 3-25-21; 8:45 am]

BILLING CODE 6560-50-P